DEPARTMENT OF ENERGY

Federal Energy Regulatory Commission

[Docket No. RP00-585-000]

Vector Pipeline L.P.; Notice of Proposed Changes in FERC Gas Tariff

October 3, 2000.

Take notice that on September 29, 2000, Vector Pipeline L.P. (Vector), tendered for filing original and revised pro forma tariff sheets to its FERC Gas Tariff, Original Volume No. 1, to become effective upon issuance of a Commission order.

Vector states that the purpose of this filing is to submit tariff sheets in compliance with Commission requirements in Order Nos. 637, et seq.

Vector states that it has tendered pro forma tariff sheets to address the following matters, as required in Order No. 637; segmentation and flexible receipt and delivery points, penalties and penalty crediting, operational flow orders, and capacity release.

Any person desiring to be heard or to protest said filing should file a motion to intervene or a protest with the Federal Energy Regulatory Commission, 888 First Street, NE., Washington DC 20426, in accordance with sections 385.214 or 385.211 of the Commission's Rules and Regulations. All such motions or protests must be filed on or before October 30, 2000. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-25845 Filed 10-6-00; 8:45 am]

BILLING CODE 6717-01-M